DEPARTMENT OF THE TREASURY

Submission for OMB Review; Comment Request

May 20, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW. Washington, DC 20220.

DATES: Written comments should be received on or before June 27, 2008 to be assured of consideration.

United States Mint

OMB Number: 1525-0012.

Type of Review: Revision.

Title: Generic Clearance for Voluntary Surveys to Implement E.O. 12882. Implemented by Sales and Marketing Division.

Description: This is a revised Generic Clearance for an undefined number of customer satisfaction and opinion surveys or focus group interviews to be conducted over the next three years. The information collected from these surveys will be used to improve U.S. Mint products and services.

Respondents: Individuals or households.

Estimated Total Reporting Burden: 60,813 hours.

Clearance Officer: Yvonne Pollard (202) 354-6784, United States Mint, 799 9th Street, NW., 4th Floor, Washington, DC 20220.

OMB Reviewer: Alexander T. Hunt (202) 395-7316, Office of Management and Budget, Room 10235, New Executive Office Building, Washington, DC 20503.

Robert Dahl,
Treasury PRA Clearance Officer.

[FR Doc. E8-11818 Filed 5-27-08; 8:45 am]

BILLING CODE 4810-37-P